DEPARTMENT OF COMMERCE

National Oceanic and Atmospheric Administration

RIN 0648-XG653

Endangered and Threatened Species; Take of Anadromous Fish

AGENCY: National Marine Fisheries Service (NMFS), National Oceanic and Atmospheric Administration (NOAA), Commerce.

ACTION: Notice; re-opening of public comment period.

SUMMARY: The National Marine Fisheries Service (NMFS) is announcing the re-opening of a public comment period regarding recreational fisheries in the State of Idaho. The FMEP, provided by the Idaho Department of Fish and Game (IDFG), specifies the implementation of fisheries targeting adipose-fin-clipped, hatchery-origin Snake River steelhead within the State of Idaho and in boundary waters with Oregon and Washington. On November 6, 2018, NMFS opened a 30-day public comment period on a Fishery Management and Evaluation Plan (FMEP) pursuant to the protective regulations promulgated for Pacific salmon and steelhead under the Endangered Species Act (ESA). That comment period ended on December 6, 2018. In response to a request received from the public, NMFS intends to obtain additional information.

DATES: Comments must be received at the appropriate address or fax number (see ADDRESSES) no later than 5:00 p.m. Pacific time on December 13, 2018.

ADDRESSES: Written comments on the application should be addressed to the NMFS Sustainable Fisheries Division, 1201 NE Lloyd Boulevard, Suite 1100, Portland, OR 97232. Comments may be submitted by email. The mailbox address for providing email comments is: IdahoSteelheadFisheriesPlan.wcr@noaa.gov. Include in the subject line of the email comment the following identifier: Idaho's Snake River Steelhead Fisheries Plan.

FOR FURTHER INFORMATION CONTACT: Allyson Purcell, at phone number: (503) 736-4736, or via email: allyson.purcell@noaa.gov.

SUPPLEMENTARY INFORMATION:

Species Covered in This Notice

Chinook salmon (Oncorhynchus tshawytscha): threatened, naturally produced and artificially propagated Snake River Spring/Summer and Snake River Fall.

Steelhead (O. mykiss): threatened, naturally produced and artificially propagated Snake River Basin.

Sockeye salmon (O. nerka): endangered, naturally produced and artificially propagated Snake River.

IDFG submitted the FMEP to NMFS describing fisheries targeting adult adipose-fin-clipped, hatchery-origin steelhead within the State of Idaho and in boundary waters with Oregon and Washington. The plan was submitted under ESA limit 4 of the 4(d) Rule. These fisheries were designed to support fishing opportunities while minimizing potential risks to ESA-listed species. The FMEP describes timing, location, harvest impact limits, licensing, and gear requirements, and requires that all fish caught with an intact adipose fin be released unharmed. A variety of monitoring and evaluation is included in the FMEP.

This reopening is in place of a planned extension of the comment period. NMFS had previously considered extending the comment period by seven days, until December 13. However, extensions may only occur while the comment period is ongoing, and NMFS could not be certain that a public notice of an extension would be published before December 6. Therefore, to avoid potential confusion, we are executing a reopening of the comment period to accept comments until December 13, so that the result is identical to the planned extension. This additional period for public comment will not affect NMFS's overall schedule for completing our ESA review.

As specified in the July 10, 2000, ESA 4(d) rule for salmon and steelhead (65 FR 42422) and updated June 28, 2005 (70 FR 37160), NMFS may approve an FMEP if it meets criteria set forth in 50 CFR 223.203(b)(4)(i)(A) through (I). Prior to final approval of an FMEP, NMFS must publish notification announcing the FMEP's availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 4 of the updated 4(d) rule (50 CFR 223.203(b)(4)) further provides that the prohibitions of paragraph (a) of the updated 4(d) rule (50 CFR 223.203(a)) do not apply to fisheries provided that an FMEP has been approved by NMFS to be in accordance with the salmon and steelhead 4(d) rule (65 FR 42422, July 10, 2000, as updated in 70 FR 37160, June 28, 2005).

Dated: December 6, 2018.
Donna S. Wieting,
Director, Office of Protected Resources, National Marine Fisheries Service.

[FR Doc. 2018-26794 Filed 12-10-18; 8:45 am]

BILLING CODE 3510-22-P